JUDICIAL CONFERENCE OF THE UNITED STATES

Advisory Committee on Bankruptcy Rules; Meeting of the Judicial Conference

AGENCY: Judicial Conference of the United States.

ACTION: Advisory Committee on Bankruptcy Rules; notice of open meeting.

SUMMARY: The Advisory Committee on Bankruptcy Rules will hold an in-person meeting in hybrid format with remote attendance options on April 15, 2026 in Charlotte, NC. The meeting is open to the public for observation but not participation. Please see the Supplementary Information section in this notice for instructions on observing the meeting.

DATES: April 15, 2026 (meeting date) and April 8, 2026 (registration deadline for in-person observation).

ADDRESSES: An agenda and supporting materials will be posted at least 7 days in advance of the meeting at: https://www.uscourts.gov/forms-rules/records-rules-committees/agenda-books.

FOR FURTHER INFORMATION CONTACT: Carolyn A. Dubay, Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: To observe the meeting in person, individuals must contact the office listed above by 5 p.m. (eastern time) on April 8, 2026. After this deadline, only remote observation is permitted. Remote registration is available until the meeting date, provided it is completed before the projected end time.

(Authority: 28 U.S.C. 2073.)

Dated: February 26, 2026.
Shelly L. Cox,
Management Analyst, Rules Committee Staff.

[FR Doc. 2026-04172 Filed 3-2-26; 8:45 am]

BILLING CODE 2210-55-P